DEPARTMENT OF JUSTICE

Antitrust Division

Notice Pursuant to the National Cooperative Research and Production Act of 1993—Information Warfare Research Project Consortium

Notice is hereby given that, on April 3, 2024, pursuant to section 6(a) of the National Cooperative Research and Production Act of 1993, 15 U.S.C. 4301 et seq. (“the Act”), Information Warfare Research Project Consortium (“IWRP”) has filed written notifications simultaneously with the Attorney General and the Federal Trade Commission disclosing changes in its membership. The notifications were filed for the purpose of extending the Act's provisions limiting the recovery of antitrust plaintiffs to actual damages under specified circumstances. Specifically, 10x National Security LLC, Aldie, VA; Accrete AI Government LLC, New York, NY; BlueSky Mast, Inc., Largo, FL; CALIBRE Systems, Inc., Alexandria, VA; cBEYONData LLC, Arlington, VA; Comtech Satellite Network Technologies, Inc., Chandler, AZ; Cybrex LLC, Norfolk, VA; DOMA Technologies LLC, Virginia Beach, VA; Echodyne Corp., Kirkland, WA; Ellis & Watts Global Industries, Inc., Batavia, OH; FishEye Software, Inc., Maynard, MA; Goldbelt Security LLC, Chesapeake, VA; M.C. Dean, Inc., Tysons, VA; Management Services Group, Inc., Virginia Beach, VA; mLogica LLC, Las Vegas, NV; Sciumo, Inc., Odenton, MD; Sextant Technologies LLC, Washington, DC; Sigma Defense Systems LLC, Perry, GA; Signature Science LLC, Austin, TX; Silicon Mountain Technologies, Inc., Lakewood, CO; Teal Stratus Technologies LLC, Fort Mill, SC; Trinity Information Technology LLC, Yardley, PA; Unstructured Technologies, Inc., Loomis, CA; Varada Consulting LLC, Vienna, VA; and VIRSIG LLC, Port Washington, NY, have been added as parties to this venture.

Also, A.T. Kearney Public Sector & Defense Services LLC, Arlington, VA; Analog Devices, Inc., Wilmington, MA; Apogee Applied Research, Inc., Dayton, OH; Bowler Pons Solutions Consultants LLC, Annapolis, MD; Breault Research Organization, Tucson, AZ; By Light Professional IT Services LLC, McLean, VA; CP Technologies LLC, San Diego CA; DISH Wireless LLC, Englewood CO; Effecture LLC, San Diego, CA; IDS International Government Services LLC, Arlington, VA; Impact Resources, Inc. dba IR Technologies, Bristow, VA; Interdigital Communications, Inc., Wilmington, DE; KeyW Corp., Hanover, MD; Lewiz Communications, Inc., San Jose, CA; Mainstream Engineering Corp., Rockledge, FL; MicroHealth LLC, Vienna, VA; MindPoint Group LLC, Alexandria, VA; Nexus Life Cycle Management LLC, Stevenson, WA; NTT DATA Federal Services, Inc., Herndon,VA; ODME Solutions LLC, San Diego, CA; Peregrine Technical Solutions LLC, Yorktown, VA; Progeny Systems LLC, Manassas, VA; Pyramid Systems, Inc., Fairfax, VA; QuesTek Innovations, Evanston, IL; RackTop Systems, Inc., Fulton, MD; Red Balloon Security, Inc., New York, NY; Redcom Laboratories, Inc., Victor NY; Research & Development Solutions, Inc., McLean, VA; Reservoir Labs, Inc., New York, NY; Sequoia Holdings LLC, Reston, VA; SMS Data Products Group, Inc., McLean, VA; Software AG Government Solutions, Inc., Herndon, VA; Spin Systems, Inc., Falls Church, VA; Summit2Sea Consulting LLC, Arlington, VA; System Strategy, Inc., Franklin, MI; Tachyon Networks LLC, San Diego, CA; TeleCommunication Systems, Inc., Annapolis, MD; True North Logistics LLC, Downers Grove, IL; Ultralight Industries Corp., Cincinnati, OH; and Vanguard LED Displays, Inc., Lakeland, FL, have withdrawn as parties to this venture.

No other changes have been made in either the membership or planned activity of the group research project. Membership in this group research project remains open, and IWRP intends to file additional written notifications disclosing all changes in membership.

On October 15, 2018, IWRP filed its original notification pursuant to section 6(a) of the Act. The Department of Justice published a notice in the Federal Register pursuant to section 6(b) of the Act on October 23, 2018 (83 FR 53499).

The last notification was filed with the Department on January 3, 2024. A notice was published in the Federal Register pursuant to section 6(b) of the Act on February 6, 2024 (89 FR 8243).

Suzanne Morris,
Deputy Director Civil Enforcement Operations, Antitrust Division.

[FR Doc. 2024-13612 Filed 6-20-24; 8:45 am]

BILLING CODE P